ENVIRONMENTAL PROTECTION AGENCY

[ER-FRL-6608-5]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 14, 2000 (65 FR 20157).

Draft EISs

ERP No. D-AFS-L65353-ID Rating EC2, Lakeface-Lamb Fuel Reduction Project, To Reduce the Risk of Lethal Fires within a Wildland/Urban Interface, Implementation, Idaho Panhandle National Forests, Priest Lake Ranger District, Bonner County, ID.

Summary: EPA expressed environmental concerns about the potential adverse impacts to water quality from sediment. EPA recommends that the selected alternative in the final EIS address ATV use and demonstrate that adequate funding will be allocated to maintain redeveloped roads to environmental and safety standards.

ERP No. D-AFS-L65354-ID Rating EO2, Iron Honey Resource Area Project, Aquatic, Vegetative and Wildlife Habitat Improvement Activities, Implementation, Coeur d'Alene River Ranger District, Idaho Panhandle National Forests, Kootenai and Shoshone Counties, ID.

Summary: EPA expressed objections based on the potential adverse impacts to water quality and wildlife. EPA recommends that the final EIS present more discussion on the relative merits of passive and active restoration to meet project objectives.

ERP No. DS-COE-E36167-FL Rating EO2, Central and Southern Florida Project for Flood Control and Other Purposes, Everglades National Park Modified Water Deliveries, New Information concerning Flood Mitigation to the 8.5 Square Mile Area (SMA), Implementation, South Miami, Dade County, FL.

Summary:

EPA expressed environmental objections to Alternative 1 since its structural approach maximizes internal surface water and wetland drainage. EPA had no objection with Alternative 5 since it restores the area to its natural conditions. In addition, EPA requested that all internal surface waters within any leveed area must be treated to marsh-ready levels before delivery into the Everglades National Park and that zoning within the protected area must be enforced to reduce water quality degradation.

Final EISs

ERP No. F-AFS-J65296-MT Swamp Timber Sales Project, Implementation,

Kootenai National Forest, Fortine Ranger District, Lincoln County, MT.

Summary:

EPA continues to express environmental concerns with the preferred alternative in comparison to alternative D, the environmentally preferred alternative. However, the preferred alternative did include many beneficial features such as road reconstruction, decommissioning and access restrictions, and riparian buffers and fencing, and harvest prescriptions to mitigate impacts.

Dated: June 20, 2000.
Joseph C. Montgomery,
Director, NEPA Compliance Division, Office of Federal Activities.

[FR Doc. 00-15979 Filed 6-22-00; 8:45 am]

BILLING CODE 6560-50-P